DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, U.S Environmental Protection Agency (USEPA), and U.S. Fish and Wildlife Service (FWS).

SUMMARY: The FHWA, on behalf of Caltrans, is issuing this notice to announce actions taken by Caltrans, U.S Environmental Protection Agency (USEPA), and U.S. Fish and Wildlife Service (FWS) that are final. The actions relate to a proposed highway project on the Interstate 5 (I-5) and State Route 56 (SR 56) from postmile (PM) I-5: R32.7 to R34.8 and SR 56: 0.00 to 2.5 in the County of San Diego, State of California. The action is to provide the amended record of decision (ROD) identifying the Hybrid Alternative (Alternative 4) as the new Selected Alternative to move forward in construction. Alternative 4 is a different alternative than the preferred alternative identified in the Final Environmental Impact Report/Environmental Impact Statement (EIR/EIS) approved for the project on June 26th, 2017]. Those actions grant licenses, permits, and approvals for the project.

DATES: By this notice, the FHWA, on behalf of Caltrans, is advising the public of final agency actions subject to 23 U.S.C. 139(l)(1). A claim seeking judicial review of the Federal agency actions on the highway project will be barred unless the claim is filed on or before May 11, 2023. If the Federal law that authorizes judicial review of a claim provides a time period of less than 150 days for filing such claim, then that shorter time period would apply.

FOR FURTHER INFORMATION CONTACT: For Caltrans: Mr. Stefan Galvez-Abadia, Deputy District Director, Division of Environmental Analysis, California Department of Transportation, 4050 Taylor Street, MS 242, San Diego, CA 92110, Regular Office Hours: 8:00 a.m. to 5:00 p.m., Telephone number (619) 606-4670, email stefan.galvez@dot.ca.gov. For FHWA: Mr. Shawn Oliver, Environmental Program Manager, at telephone number (916) 498-5048, email Shawn.Oliver@dot.gov. For the U.S. Fish and Wildlife Service, Ms. Sally Brown, Caltrans Liaison, 2177 Salk Avenue, Ste 250, Suite 101, Carlsbad, CA 92011, Regular Office Hours 8:00 a.m. to 5:00 p.m., Telephone number (760) 431-9440, email Sally_Brown@fws.gov.

SUPPLEMENTARY INFORMATION: FHWA's responsibility for environmental review, consultation, and any other action required in accordance with applicable federal laws for this project is being, or was, carried out by Caltrans under its assumption of responsibility pursuant to Fixing America's Surface Transportation (FAST) Act amended 23 U.S.C. 327. Under NEPA Assignment, FHWA assigned and Caltrans assumed all of the USDOT Secretary's responsibilities under NEPA. FHWA and Caltrans executed NEPA Assignment MOU dated December 23, 2016 that identifies FHWA's and Caltrans' roles and responsibilities, describes NEPA Assignment requirements, and officially extends Caltrans' use of the 23 U.S.C. 327. Notice is hereby given that Caltrans, U.S. Fish and Wildlife Service (FWS) have taken final agency actions subject to 23 U.S.C. 139(l)(1) by issuing licenses, permits, and approvals for the following highway project in the State of California: The project is located in San Diego County at the I-5/SR 56 Interchange near Carmel Valley Road in San Diego from postmile (PM) I-5: R32.7 to R34.8 and SR 56: 0.00 to 2.5. The proposed project includes improvements to maintain or improve the existing and future traffic operations on the I-5 and SR 56 corridors. Caltrans is amending the ROD to identify the Hybrid Alternative (Alternative 4) as the new Selected Alternative to move forward in construction. Alternative 4 is a different alternative than the preferred alternative identified in the Final Environmental Impact Report/Environmental Impact Statement (EIR/EIS) approved June 26th, 2017. This Amended ROD documents the approval of the Selected Alternative to provide construction of a westbound SR 56 to northbound I-5 direct connector having two general-purpose lanes and an auxiliary lane along southbound I-5 between the southbound on-ramp at Del Mar Heights Road and the southbound off-ramp at Carmel Valley Road to reduce merging traffic at two missing freeway connectors of an existing interchange. Relocation of the AT&T-owned transcontinental fiber-optic line that currently parallels I-5 between Carmel Valley Road and Del Mar Heights Road to within High Bluff Drive and El Camino Real. In addition, the project includes: auxiliary lanes; soundwalls; retaining walls, barriers, guard rails/end treatments, crash cushions, bridge rails, drainage improvements, detention basins, replacement of existing fences, potential installation of fencing for right-of-way, visual and community enhancements; ramp improvements; and appurtenant structures including signage. The actions by the Federal agencies, and the laws under which such actions were taken, are described in the Final Environmental Statement (FEIS) for the project, approved on June 26, 2017, the Amended Record of Decision (ROD) issued on October 25, 2022 to replace the previous ROD issued on September 7, 2017. The FEIS, Amended ROD, and other project records are available by contacting Caltrans at the addresses provided above. The Caltrans Final FEIS and Amended ROD can be viewed and downloaded from the project website at: http://www.dot.ca.gov/d11/environmental/. This notice applies to all Federal agency decisions as of the issuance date of this notice and all laws under which such actions were taken, including but not limited to:

1. Council on Environmental Quality regulations;

2. National Environmental Policy Act (NEPA);

3. Safe, Accountable, Flexible, Efficient Transportation Equity Act: A Legacy for Users (SAFETEA-LU);

4. Department of Transportation Act of 1966;

5. Federal Aid Highway Act of 1970;

6. Clean Air Act (CAA) Amendments of 1990;

7. Clean Water Act (CWA) of 1977 and 1987;

8. Federal Water Pollution Control Act of 1972;

9. Endangered Species Act of 1973;

10. Migratory Bird Treaty Act;

11. Farmland Protection Policy Act of 1981;

12. Title VI of the Civil Rights Act of 1964;

13. Uniform Relocation Assistance and Real Property Acquisition Act of 1970;

14. National Historic Preservation Act (NHPA) of 1966;

15. Historic Sites Act of 1935;

16. Resource Conservation and Recovery Act of 1976;

17. Community Environmental Response Facilitation Act (CERFA) of 1992;

18. Executive Order 11990, Protection of Wetlands

19. Executive Order 13112, Invasive Species;

20. Executive Order 11988, Floodplain Management; and,

21. Executive Order 12898, Environmental Justice.

(Catalog of Federal Domestic Assistance Program Number 20.205, Highway Planning and Construction. The regulations implementing Executive Order 12372 regarding intergovernmental consultation on Federal programs and activities apply to this program.)

Authority: 23 U.S.C. 139(l)(1).

Antonio Johnson,
Director for Planning, Environmental, and Right of Way, Federal Highway Administration, Sacramento, California.

[FR Doc. 2022-26870 Filed 12-9-22; 8:45 am]

BILLING CODE 4910-RY-P